DEPARTMENT OF ENERGY

Federal Energy Regulatory Commission

[Docket No. IC05-73-001, FERC Form 73]

Commission Information Collection Activities, Proposed Collection; Comment Request; Submitted for OMB Review

April 14, 2005.

AGENCY: Federal Energy Regulatory Commission.

ACTION: Notice.

SUMMARY: In compliance with the requirements of Section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received no comments in response to an earlier Federal Register notice of January 31, 2005 (70 FR 4831-32) and has made this notation in its submission to OMB.

DATES: Comments on the collection of information are due by May 19, 2005.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-33, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC20426 and should refer to Docket No. IC05-73-001.

Documents filed electronically via the Internet must be prepared in, MS Word, Portable Document Format, Word Perfect or ASCII format. To file the document, access the Commission's Web site at http://www.ferc.gov and click on “Make an E-filing,” and then follow the instructions for each screen. First time users will have to establish a user name and password. The Commission will send an automatic acknowledgment to the sender's E-mail address upon receipt of comments. User assistance for electronic filings is available at 202-502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 73 “Oil Pipeline Service Life Data”

2. Sponsor: Federal Energy Regulatory Commission

3. Control No.: 1902-0019.

The Commission is now requesting that OMB approve with a three-year extension of the expiration date, with no changes to the existing collection. The information filed with the Commission is mandatory.

4. Necessity of the Collection of Information: Submission of the information is necessary to enable the Commission to carry out its responsibilities in implementing the statutory provisions of the Department of Energy Organization Act, and Executive Order No. 12009, 42 FR 46277 (September 13, 1977). The Commission has authority over interstate pipelines as stated in the Interstate Commerce Act, 49 U.S.C. § 6501 et al. As part of the information necessary for the subsequent investigation and review of an oil pipeline company's proposed depreciation rates, the pipeline companies are required to provide public service life data as part of their data submission if the proposed depreciation rates are based on the remaining physical life calculations. This service life data is submitted on FERC Form 73.

The scope of the Commission's jurisdiction over oil pipelines includes the authority to regulate their rates and charges for transportation of oil in interstate commerce, and the authority to establish valuations. Oil pipeline companies are required to submit depreciation information pursuant to 1-8(b)(2) and 1-8(b)(3) of the General Instructions found at 18 CFR Part 352 of the Commission's regulations. These instructions require oil pipeline carriers to compute percentage rate studies for their depreciable property accounts, and to maintain records as to the service life and net salvage value of their property and property retirements.

The Commission uses the information submitted on FERC Form 73 to conduct depreciation rate investigations of oil pipelines. The Commission also uses the information to determine appropriate oil pipeline service lives and book depreciation rates. Oil pipeline companies use book depreciation rates to compute the depreciation portion of their operating expenses when determining their cost of service. The Commission implements these requirements in 18 CFR 357.3 of its regulations.

5. Respondent Description: The respondent universe currently comprises 2 companies (on average per year) subject to the Commission's jurisdiction

6. Estimated Burden: 80 total hours, 2 respondents (average per year), 1 response per respondent, and 40 hours per response (average).

7. Estimated Cost Burden to respondents: 80 hours/2080 hours per years × $108,558 per year = $4,176.

Statutory Authority: Sections 306 and 402 of the Department of Energy Organization Act, Pub. L. 95-91, 42 sections 7155 and 7172, Interstate Commerce Act, 49 U.S.C. 6501 et al., and Executive Order No. 12009.

Magalie R. Salas,
Secretary.

[FR Doc. E5-1872 Filed 4-20-05; 8:45 am]

BILLING CODE 6717-01-P